DEPARTMENT OF EDUCATION

Applications for New Awards; Graduate Assistance in Areas of National Need (GAANN)

AGENCY: Office of Postsecondary Education, Department of Education.

ACTION: Notice.

SUMMARY: The Department of Education (Department) is issuing a notice inviting applications for new awards for fiscal year (FY) 2024 for the Graduate Assistance in Areas of National Need (GAANN) Program, Assistance Listing Number 84.200A. This notice relates to the approved information collection under OMB control number 1840-0604.

DATES:

Applications Available: April 24, 2024.

Deadline for Transmittal of Applications: June 24, 2024.

Deadline for Intergovernmental Review: August 22, 2024.

ADDRESSES: For the addresses for obtaining and submitting an application, please refer to our Common Instructions for Applicants to Department of Education Discretionary Grant Programs, published in the Federal Register on December 7, 2022 (87 FR 75045) and available at www.federalregister.gov/d/2022-26554. Please note that these Common Instructions supersede the version published on December 27, 2021.

FOR FURTHER INFORMATION CONTACT: Rebecca Ell, U.S. Department of Education, 400 Maryland Avenue SW, 5th Floor, Washington, DC 20202-4260. Telephone: (202) 453-6348. Email: OPE_GAANN_Program@ed.gov; or ReShone Moore, Ph.D., U.S. Department of Education, 400 Maryland Avenue SW, 5th Floor, Washington, DC 20202-4260. Telephone (202) 453-7624. Email: reshone.moore@ed.gov.

If you are deaf, hard of hearing, or have a speech disability and wish to access telecommunications relay services, please dial 7-1-1.

SUPPLEMENTARY INFORMATION:

Full Text of Announcement

I. Funding Opportunity Description

Purpose of Program: The GAANN Program provides grants to academic departments and programs of institutions of higher education (IHEs) to support graduate fellowships for students with excellent academic records in their previous programs of study who demonstrate financial need and plan to pursue the highest degree available in their course of study at the institution.

Priorities: This notice contains one absolute priority, two competitive preference priorities, and one invitational priority. In accordance with 34 CFR 75.105(b)(2)(ii), the absolute priority is from the regulations for this program (34 CFR 648.33(a) and Appendix to part 648—Academic Areas). Please note that the codes next to selected academic areas under the absolute priority are from the Appendix to part 648—Academic Areas of the program regulations and can be found in the application booklet as well as at www.ecfr.gov/cgi-bin/text-idx?SID=f8ad0cf4f75cd9841b2bc1adb98c5739&mc=true&node=pt34.3.648&rgn=div5. The first competitive preference priority is from the notice of final administrative priorities for discretionary grant programs published in the Federal Register on March 9, 2020 (85 FR 13640) (Administrative Priorities). The second competitive preference priority is from the Secretary's Supplemental Priorities and Definitions for Discretionary Grant Programs, published in the Federal Register on December 10, 2021 (86 FR 70612) (Supplemental Priorities).

Note: Applicants must include in the one-page abstract submitted with the application a statement indicating which, if any, competitive preference priorities or invitational priority is addressed.

Absolute Priority: For FY 2024 and any subsequent year in which we make awards from the list of unfunded applications from this competition, this priority is an absolute priority. Under 34 CFR 75.105(c)(3), we consider only applications that meet this priority.

The absolute priority is:

Graduate Assistance in Areas of National Need.

A project must provide fellowships in one or more of the following areas of national need.

For the following academic areas, the project must provide fellowships for programs that lead either to a master's degree or a doctoral degree, whichever is the highest degree awarded in the area of need at the institution.

• #11—Computer and Information Sciences (11)

11.01 Computer and Information Sciences, General

11.02 Computer Programming

11.04 Information Sciences and Systems

11.05 Computer Systems Analysis

11.07 Computer Science

• #13—Education

13.02 Bilingual/Bicultural Education

13.10 Special Education

13.11 Student Counseling and Personnel Services

13.14 Teaching English as a Second Language/Foreign Language

• #14—Engineering

14.01 Engineering, General

14.02 Aerospace, Aeronautical, and Astronautical Engineering

14.03 Agricultural Engineering

14.04 Architectural Engineering

14.05 Bioengineering and Biomedical Engineering

14.06 Ceramic Sciences and Engineering

14.07 Chemical Engineering

14.08 Civil Engineering

14.09 Computer Engineering

14.10 Electrical, Electronic, and Communications Engineering

14.11 Engineering Mechanics

14.12 Engineering Physics

14.13 Engineering Science

14.14 Environmental/Environmental Health Engineering

14.15 Geological Engineering

14.16 Geophysical Engineering

14.17 Industrial/Manufacturing Engineering

14.18 Materials Engineering

14.19 Mechanical Engineering

14.20 Metallurgical Engineering

14.21 Mining and Mineral Engineering

14.22 Naval Architecture and Marine Engineering

14.23 Nuclear Engineering

14.24 Ocean Engineering

14.25 Petroleum Engineering

14.27 Systems Engineering

14.28 Textile Sciences and Engineering

14.29 Engineering Design

14.30 Engineering/Industrial Management

14.31 Materials Science

14.32 Polymer/Plastics Engineering

• #26—Biological Sciences/Life Sciences

26.01 Biology, General

26.02 Biochemistry and Biophysics

26.03 Botany

26.04 Cell and Molecular Biology

26.05 Microbiology/Bacteriology

26.06 Miscellaneous Biological Specializations

26.07 Zoology

• #27—Mathematics

27.01 Mathematics

27.03 Applied Mathematics

27.05 Mathematic Statistics

• #40—Physical Sciences

40.01 Physical Sciences, General

40.02 Astronomy

40.03 Astrophysics

40.04 Atmospheric Sciences and Meteorology

40.05 Chemistry

40.06 Geological and Related Sciences

40.07 Miscellaneous Physical Sciences

40.08 Physics

• #42—Psychology

42.01 Psychology

42.02 Clinical Psychology

42.03 Cognitive Psychology and Psycholinguistics

42.04 Community Psychology

42.06 Counseling Psychology

42.07 Developmental and Child Psychology

42.08 Experimental Psychology

42.09 Industrial and Organizational Psychology

42.11 Physiological Psychology/Psychobiology

42.16 Social Psychology

42.17 School Psychology

Competitive Preference Priorities: For FY 2024 and any subsequent year in which we make awards from the list of unfunded applications from this competition, these priorities are competitive preference priorities. Under 34 CFR 75.105(c)(2)(i) we award up to an additional two points to an application that meets these priorities.

These priorities are:

Competitive Preference Priority 1: Applications from New Potential Grantees (1 point).

Under this priority, an applicant must demonstrate that the applicant does not, as of the deadline date for submission of applications, have an active grant, including through membership in a group application submitted in accordance with 34 CFR 75.127-75.129, under the GAANN program.

Note: For the purpose of this priority, the “applicant” is the institution. Institutions with active grants that are applying on behalf of a new academic department cannot receive points for this competitive priority. A grant is active until the end of the grant's project or funding period, including any extensions of those periods that extend the grantee's authority to obligate funds.

Competitive Preference Priority 2: Promoting Equity in Student Access to Educational Resources and Opportunities (1 point).

Under this priority, an applicant must demonstrate that the project will be implemented by one or more of the following entities:

(1) Historically Black colleges and universities (as defined in this notice).

(2) Tribal Colleges and Universities (as defined in this notice).

(3) Minority-serving institutions (as defined in this notice).

Invitational Priority: For FY 2024 and any subsequent year in which we make awards from the list of unfunded applications from this competition, this priority is an invitational priority. Under 34 CFR 75.105(c)(1), we do not give an application that meets this invitational priority a competitive or absolute preference over other applications.

This priority is:

Projects designed to increase the number of low-income students in graduate fellowships.

Projects should include plans to identify, recruit, and retain students who are low-income.

For purpose of this priority, the term “low-income student” means a student who would otherwise be eligible to receive a Maximum Pell Grant for the award year in which the determination is made, except that the student is enrolled in graduate study. See criteria for Maximum Pell Grant eligibility in the Student Aid Index (SAI) and Pell Grant Eligibility section of the 2024-2025 Federal Student Aid Handbook.¹

¹ https://fsapartners.ed.gov/knowledge-center/fsa-handbook/2024-2025/application-and-verification-guide/ch3-student-aid-index-sai-and-pell-grant-eligibility#:~:text=Minimum%20Pell%20Grant%20Eligibility%20Criteria.

Definitions: The following definition of “financial need” is from 34 CFR 648.9. The definitions of “Historically Black Colleges and Universities,” “Minority-Serving Institution,” and “Tribal College and University” are from the Supplemental Priorities.

Financial need means the fellow's financial need as determined under title IV, part F, of the HEA for the period of the fellow's enrollment in the approved academic field of study for which the fellowship was awarded.

Historically Black colleges and universities means colleges and universities that meet the criteria set out in 34 CFR 608.2.

Minority-serving institution means an institution that is eligible to receive assistance under sections 316 through 320 of part A of title III, under part B of title III, or under title V of the HEA.

Tribal College or University has the meaning ascribed it in section 316(b)(3) of the HEA.

Program Authority: 20 U.S.C. 1135-1135e.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 648. (e) The Administrative Priorities. (f) The Supplemental Priorities.

Note: The open licensing requirement in 2 CFR 3474.20 does not apply to this program.

II. Award Information

Type of Award: Discretionary grants, including funds redistributed as graduate fellowships to individual fellows.

Estimated Available Funds: $20,479,535.

Contingent upon the availability of funds and the quality of applications, we may make additional awards in subsequent years from the list of unfunded applications from this competition.

Estimated Range of Awards: $112,102-$448,408 based on an average of 2 to 8 federally funded fellowships.

Minimum and Maximum Award: The amount of a grant to an academic department may not be less than $100,000 and may not be more than $750,000 in a fiscal year (648.5(a)).

Estimated Average Size of Awards: $336,306 based on an average of 6 Federal GAANN fellowships requested per grant application.

Estimated Number of Awards: 60.

Note: The Department is not bound by any estimates in this notice.

Project Period: Up to 36 months.

Stipend Level: For the 2024-25 academic year, the institution must pay the fellow a stipend at a level of support equal to that provided by the National Science Foundation Graduate Research Fellowship Program (https://www.nsfgrfp.org/), except this amount must be adjusted as necessary so as not to exceed the fellow's demonstrated level of financial need as stated under part F of title IV of the Higher Education Act of 1965, as amended.

Institutional Payment: For the 2024-25 academic year, the estimated institutional payment is $19,051 per fellow. This amount was determined by adjusting the previous academic year's institutional payment of $18,266 per fellow by the U.S. Department of Labor's Consumer Price Index (CPI) for the 2023 calendar year.

Note: The institutional payment must be reduced by the amount the institution charges and collects from a fellowship recipient for tuition and other expenses as part of the recipient's instructional program. (34 CFR 648.52(b)).

III. Eligibility Information

1. Eligible Applicants:

(a) Any academic department of an IHE that provides a course of study that—(i) Leads to a graduate degree in an area of national need; and (ii) Has been in existence for at least four years at the time of an application for a grant under this competition.

(b) Eligible applicants may apply alone or in partnership with one or more eligible nondegree granting institutions that have formal arrangements for the support of doctoral dissertation research.

Note: A formal arrangement under paragraph (b) is a written agreement between a degree-granting institution and an eligible nondegree granting institution whereby the degree-granting institution accepts students from the eligible nondegree granting institution as doctoral degree candidates with the intention of awarding these students doctorates in an area of national need.

Note: A school or department of divinity is not eligible for a grant.

Note: Students are not eligible to apply for grants under this program.

2a. Cost Sharing or Matching: An institution must provide, from non-Federal funds, an institutional matching contribution equal to at least 25 percent of the grant amount received. (See 34 CFR 648.7.)

b. Supplement-Not-Supplant: This competition involves supplement-not-supplant funding requirements.

(See 34 CFR 648.20(b)(5).)

c. Administrative Cost Limitation: Under 34 CFR 648.64, neither grant funds nor institutional matching funds may be used to pay for general operational overhead costs of the academic department.

3. Subgrantees: A grantee under this competition may not award subgrants to entities to directly carry out project activities described in its application.

4. Other: For requirements relating to selecting fellows, see 34 CFR 648.40.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We specify unallowable costs in 34 CFR 648.64. We reference additional regulations outlining funding restrictions in the Applicable Regulations section of this notice.

4. Recommended Page Limit: Applications that do not follow the page limit and formatting recommendations will not be penalized. The application narrative is where you, the applicant, address the selection criteria that reviewers use to evaluate your application. We recommend the following limits and standards:

• A project narrative in a single discipline or for an interdisciplinary course of study should be limited to no more than 40 pages.

• A project narrative for a multidisciplinary project should be limited to no more than 40 pages for each academic department.

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

• Limit appendices to the following: two-page version of a curriculum vitae, per faculty member; a course listing; letters of commitment showing institutional support; a bibliography; and one additional optional appendix relevant to the support of the proposal, recommended not to exceed five pages.

The recommended page limit does not apply to the cover sheet (Application for Federal Assistance (SF 424) and the Department of Education Supplemental Information for the SF 424 form, the one-page abstract; the GAANN Statutory Assurances Form; the GAANN Budget Spreadsheet(s) Form; the Appendices; the Assurances and Certifications; or an optional two-page table of content. However, the recommended page limit does apply to all of the application narrative.

V. Application Review Information

1. Selection Criteria: The selection criteria for this program are from 34 CFR 648.31. The points assigned to each criterion are indicated in the parentheses next to the criterion. An applicant may earn up to a total of 100 points based on the selection criteria for the application. An applicant that also chooses to address the competitive preference priorities can earn up to 102 total points.

(a) Meeting the purposes of the program (up to 7 points). The Secretary reviews each application to determine how well the project will meet the purposes of the program, including the extent to which—

(1) The applicant's general and specific objectives for the project are realistic and measurable;

(2) The applicant's objectives for the project seek to sustain and enhance the capacity for teaching and research at the institution and at State, regional, or national levels;

(3) The applicant's objectives seek to institute policies and procedures to ensure the enrollment of talented graduate students from traditionally underrepresented backgrounds; and

(4) The applicant's objectives seek to institute policies and procedures to ensure that it will award fellowships to individuals who satisfy the requirements of 34 CFR 648.40.

(b) Extent of need for the project (up to 5 points). The Secretary considers the extent to which a grant under the program is needed by the academic department by considering—

(1) How the applicant identified the problems that form the specific needs of the project;

(2) The specific problems to be resolved by successful realization of the goals and objectives of the project; and

(3) How increasing the number of fellowships will meet the specific and general objectives of the project.

(c) Quality of the graduate academic program (up to 20 points). The Secretary reviews each application to determine the quality of the current graduate academic program for which project funding is sought, including—

(1) The course offerings and academic requirements for the graduate program;

(2) The qualifications of the faculty, including education, research interest, publications, teaching ability, and accessibility to graduate students;

(3) The focus and capacity for research; and

(4) Any other evidence the applicant deems appropriate to demonstrate the quality of its academic program.

(d) Quality of the supervised teaching experience (up to 10 points). The Secretary reviews each application to determine the quality of the teaching experience the applicant plans to provide fellows under this program, including the extent to which the project—

(1) Provides each fellow with the required supervised training in instruction;

(2) Provides adequate instruction on effective teaching techniques;

(3) Provides extensive supervision of each fellow's teaching performance; and

(4) Provides adequate and appropriate evaluation of the fellow's teaching performance.

(e) Recruitment plan (up to 5 points). The Secretary reviews each application to determine the quality of the applicant's recruitment plan, including—

(1) How the applicant plans to identify, recruit, and retain students from traditionally underrepresented backgrounds in the academic program for which fellowships are sought;

(2) How the applicant plans to identify eligible students for fellowships;

(3) The past success of the academic department in enrolling talented graduate students from traditionally underrepresented backgrounds; and

(4) The past success of the academic department in enrolling talented graduate students for its academic program.

(f) Project administration (up to 8 points). The Secretary reviews the quality of the proposed project administration, including—

(1) How the applicant will select fellows, including how the applicant will ensure that project participants who are otherwise eligible to participate are selected without regard to race, color, national origin, religion, gender, age, or disabling condition;

(2) How the applicant proposes to monitor whether a fellow is making satisfactory progress toward the degree for which the fellowship has been awarded;

(3) How the applicant proposes to identify and meet the academic needs of fellows;

(4) How the applicant proposes to maintain enrollment of graduate students from traditionally underrepresented backgrounds; and

(5) The extent to which the policies and procedures the applicant proposes to institute for administering the project are likely to ensure efficient and effective project implementation, including assistance to and oversight of the project director.

(g) Institutional commitment (up to 15 points). The Secretary reviews each application for evidence that—

(1) The applicant will provide, from any funds available to it, sufficient funds to support the financial needs of the fellows if the funds made available under the program are insufficient;

(2) The institution's social and academic environment is supportive of the academic success of students from traditionally underrepresented backgrounds on the applicant's campus;

(3) Students receiving fellowships under this program will receive stipend support for the time necessary to complete their courses of study, but in no case longer than five years; and

(4) The applicant demonstrates a financial commitment, including the nature and amount of the institutional matching contribution, and other institutional commitments that are likely to ensure the continuation of project activities for a significant period of time following the period in which the project receives Federal financial assistance.

(h) Quality of key personnel (up to 5 points). The Secretary reviews each application to determine the quality of key personnel the applicant plans to use on the project, including—

(1) The qualifications of the project director;

(2) The qualifications of other key personnel to be used in the project;

(3) The time commitment of key personnel, including the project director, to the project; and

(4) How the applicant, as part of its nondiscriminatory employment practices, will ensure that its personnel are selected without regard to race, color, national origin, religion, gender, age, or disabling condition, except pursuant to a lawful affirmative action plan.

(i) Budget (up to 5 points). The Secretary reviews each application to determine the extent to which—

(1) The applicant shows a clear understanding of the acceptable uses of program funds; and

(2) The costs of the project are reasonable in relation to the objectives of the project.

(j) Evaluation plan (up to 15 points). The Secretary reviews each application to determine the quality of the evaluation plan for the project, including the extent to which the applicant's methods of evaluation—

(1) Relate to the specific goals and measurable objectives of the project;

(2) Assess the effect of the project on the students receiving fellowships under this program, including the effect on persons of different racial and ethnic backgrounds, genders, and ages, and on persons with disabilities who are served by the project;

(3) List both process and product evaluation questions for each project activity and outcome, including those of the management plan;

(4) Describe both the process and product evaluation measures for each project activity and outcome;

(5) Describe the data collection procedures, instruments, and schedules for effective data collection;

(6) Describe how the applicant will analyze and report the data so that it can make adjustments and improvements on a regular basis; and

(7) Include a time-line chart that relates key evaluation processes and benchmarks to other project component processes and benchmarks.

(k) Adequacy of resources (up to 5 points). The Secretary reviews each application to determine the adequacy of the resources that the applicant makes available to graduate students receiving fellowships under this program, including facilities, equipment, and supplies.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of non-Federal reviewers will review each application in accordance with the selection criteria in 34 CFR 648.31. The individual scores of the reviewers will be added and the sum divided by the number of reviewers to determine the peer review score received in the review process. Additional factors we consider in selecting an application for an award are in 34 CFR 648.32.

Tiebreaker: If there is more than one application with the same score and insufficient funds to fund all the applications with the same ranking, the Department will apply the following procedure to determine which application or applications will receive an award:

First Tiebreaker: The first tiebreaker will be an institution that has not received an award in this competition. If a tie remains, the second tiebreaker will be utilized. If this first tie-breaker provision exhausts available funds, then no further action is taken.

Second Tiebreaker: The second tiebreaker will be the highest average score for the selection criterion 34 CFR 648.31(e), “Recruitment Plan.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: The open licensing requirement in 2 CFR 3474.20 does not apply to this program.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Grantees will be required to submit a supplement to the Final Performance Report two years after the expiration of their GAANN grant. The purpose of this supplement is to identify and report the educational and employment outcome of each GAANN fellow.

5. Performance Measures: The following performance measures will be used by the Department in assessing the performance of the GAANN Program and for Department reporting under 34 CFR 75.110:

(1) The percentage of GAANN fellows completing the terminal degree in the designated areas of national need.

(2) The median time to completion of master's and doctoral degrees for GAANN fellows.

(3) The percentage of GAANN fellows who have placements in faculty or professional positions in the area of their studies within one year of completing the degree.

(4) The cost per successful outcome, where success is defined as terminal program graduate completion.

If funded, you will be required to collect and report data in your project's annual performance report (34 CFR 75.590) on those measures and steps taken toward improving performance toward those outcomes. Consequently, applicants are advised to include these outcome measures in conceptualizing the design, implementation, and evaluation of their proposed projects. These outcome measures should be included in the project evaluation plan, in addition to measures of your progress toward the goals and objectives specific to your project.

All grantees will be expected to submit an annual performance report documenting their success in addressing these performance measures.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2024-08771 Filed 4-23-24; 8:45 am]

BILLING CODE 4000-01-P